ENVIRONMENTAL PROTECTION AGENCY

[EPA-HQ-OPP-2012; FRL-9378-3]

Pollinator Summit: Status of Ongoing Collaborative Efforts To Protect Pollinators; Notice of Public Meeting

AGENCY: Environmental Protection Agency (EPA).

ACTION: Notice.

SUMMARY: The Office of Chemical Safety and Pollution Prevention, in conjunction with the United States Department of Agriculture, will facilitate a public meeting with parties engaged in activities to reduce potential acute exposure of honey bees and pollinators to pesticides. Invited presenters will provide briefings on current activities in three key areas related to improving seed treatment techniques; reducing the generation of dust that occurs during planting operations; and raising awareness of current best management practices that are available to mitigate potential acute pesticide exposure to pollinators. Pollinators are an important component of agricultural production, critical to food and ecosystems, and must be protected so that they can continue to play this important role. The intended outcome of this meeting is to share information and look for areas of collaboration to lessen the unintended impacts of pesticides on pollinators during coming and future growing seasons. This meeting complements EPA's ongoing work through the Pesticide Program Dialogue Committee (PPDC) to support and take action to improve pollinator health.

DATES: The meeting will be held on March 5, 2013 from 8:00 a.m. to 5:00 p.m. e.s.t.

To request accommodation of a disability, please contact the person listed under FOR FURTHER INFORMATON CONTACT, preferably at least 10 days prior to the meeting, to give EPA as much time as possible to process your request.

ADDRESSES: The meeting will be held at the Office of Pesticide Programs (OPP), First Floor Conference Center, One Potomac Yard (South Bldg.), 2777 S. Crystal Dr., Arlington, VA 22202.

FOR FURTHER INFORMATION CONTACT: Mary Clock-Rust, Environmental Fate and Effects Division, (7507P), Office of Pesticide Programs, Environmental Protection Agency, 1200 Pennsylvania Ave. NW., Washington, DC 20460-0001; telephone number: (703) 308-2718; fax number: (703) 305-6309 email address: clock-rust.mary@epa.gov.

SUPPLEMENTARY INFORMATION:

I. General Information

A. Does this action apply to me?

You may be potentially affected by this action if you are engaged in activities to reduce potential exposure of honey bees and pollinators to pesticides. This action is directed to the public in general, and may be of particular interest to, but is not limited to the following entities: Agricultural workers and farmers; beekeepers; pesticide industry and trade associations; environmental, consumer, and farm worker groups; animal welfare organizations; pesticide users and growers; pest consultants, state, local and tribal governments and academia. If you have questions regarding the applicability of this action to a particular entity, consult the person listed under FOR FURTHER INFORMATION CONTACT.

B. How can I request to participate in this meeting?

This meeting is open to the public and seating is limited. Please use the following email address to make a reservation for seating: Pollinator_summit@epa.gov. Persons interested in attending the meeting remotely should contact the person listed under FOR FURTHER INFORMATION CONTACT to obtain details to access the webinar of this meeting. Comments may be made during the public comment session of the meeting; invited presenters will provide briefings and information on their current activities.

II. Background

EPA is convening a public meeting to facilitate the exchange of information among parties engaged in various activities related to improving the safety of pollinators around agricultural crops. While there are several factors affecting honey bee health, pesticides are among these variables; and, new research is rapidly becoming available on practices and technology aimed at reducing exposure of pollinators to pesticides. Specifically, this summit will focus on the pesticide treated seed, including the technology of seed treatment and the management of dust that can be associated with planting treated seed and which may lead to pesticide exposure to bees. The public meeting will also include best management techniques associated with commercial agriculture and bees. This summit complements EPA's on-going work with the PPDC Workgroup on Pollinator Protection, which is addressing pesticide labeling, best management practices, enforcement, communication and education. This public summit is being held to increase the awareness among the participants and the public of the rapidly changing understanding of, and response to protecting pollinators at agricultural crops.

List of Subjects

Environmental protection, Pesticides and pests.

Dated: February 7, 2013.
Steven Bradbury,
Director, Office of Pesticide Programs.

[FR Doc. 2013-03332 Filed 2-12-13; 8:45 am]

BILLING CODE 6560-50-P